DEPARTMENT OF ENERGY

Federal Energy Regulatory Commission

[Docket No. RM19-12-000]

Revisions to the Filing Process for Commission Forms; Notice of Technical Conference

Take notice that the Federal Energy Regulatory Commission (Commission) will hold a staff-led technical conference in the above-referenced proceedings on Tuesday through Thursday, February 4-6, 2020, from 9:00 a.m. to 5:00 p.m. Eastern time. The conference will be held in the Commission Meeting Room at Commission headquarters, 888 First Street NE, Washington, DC 20426. Staff anticipates issuing a supplemental notice and an agenda to provide additional information and a list of topics to be addressed prior to the technical conference.

In Order No. 859,¹ the Commission adopted a final rule requiring the use of XBRL format for filing Commission Form Nos. 1, 1-F, 2, 2-A, 3-Q electric, 3-Q natural gas, 6, 6-Q, 60, and 714 (collectively, Commission Forms). The Commission instructed staff to convene a technical conference or conferences to enable interested industry members, vendors, and the public to discuss and propose revisions to the draft taxonomy, along with other important components of the XBRL system. The Commission stated that at the conclusion of the technical conference process, the Commission will solicit comments and, after reviewing those comments, will issue an order adopting the final taxonomy, protocols, implementation guide and other documents, and establishing an implementation schedule.

¹ Revisions to the Filing Process for Commissions Forms, Order No. 859, 167 FERC ¶ 61,241 (2019).

For the purposes of discussion at the conference, Commission staff has developed a draft FERC XBRL taxonomy that can be found at http://www.ferc.gov/docs-filing/forms/forms-refresh.asp. Prior to the conference, parties interested in making technical comments on the draft FERC Taxonomy code may do so. We encourage parties submitting technical comments to use the Yeti review tool provided by the Commission. The Yeti review tool provides an efficient method for interested parties to view and comment on the code of the draft XBRL taxonomies. To use this tool, parties should refer to the FERC Taxonomy Guide, which details the architecture of the FERC Taxonomy, and the FERC Yeti Taxonomy Viewer Guide, which explains how to submit comments using the Yeti taxonomy review tool. The FERC Taxonomy Guide, FERC Yeti Taxonomy Viewer Guide, and Yeti review tool are available at the FERC Forms Refresh website: http://www.ferc.gov/docs-filing/forms/forms-refresh.asp.

The purpose of the technical conference is to discuss the draft FERC Taxonomy and filing processes for implementing the XBRL data standard. Participants at the technical conference will have the opportunity to discuss any of the related documents, technical issues, and other issues related to the transition to XBRL, including the implementation schedule for the new data collection standard. The draft FERC Taxonomy referenced in this notice will be supplemented by documents containing the draft definitions, draft validations, draft visual renderings of the blank forms, and draft user guides for filing the Commission Forms, as they are completed. The additional documents also will be provided for review at the FERC Forms Refresh website: http://www.ferc.gov/docs-filing/forms/forms-refresh.asp.

Any person can review the draft FERC Taxonomy using the Yeti review tool, or by downloading the FERC Taxonomy file at the FERC Forms Refresh website. However, to gain Contributor access to make comments on the draft FERC Taxonomy in the Yeti review tool, interested persons must create a Yeti account by using the sign up link within the Yeti review tool and then email XBRLFormsRefresh@ferc.gov to request Contributor access with the following information:

(1) The first and last name of requester;

(2) the email address of the requester;

(3) the company name, if applicable;

(4) a statement noting whether the requester is filing as an individual or on behalf of the company;

(5) the requester's phone number; and

(6) “Yeti Contributor Access Request” in the subject line of the email.

In addition to filing technical comments on the taxonomy code using the Yeti review tool, parties may file written comments on issues related to the draft FERC Taxonomy or related draft documents listed above by January 17, 2020. After January 17, 2020, and before the technical conference, Commission staff will compile the comments made through Yeti and submit them into the record of this proceeding on the Commission's eLibrary. Parties also will have the opportunity to submit comments after the conference.

Based on comments received by January 17, 2020, the Commission will release a revised version of the draft FERC Taxonomy on the FERC Forms Refresh website prior to the commencement of the technical conference. The revised draft FERC Taxonomy will be discussed at the technical conference on February 4-6, 2020.

The technical conference will be open for the public to attend. Advanced registration is not required to attend but is encouraged. Attendees may register at the following link: https://www.ferc.gov/whats-new/registration/02-04-s20-form.asp. In-person attendees should allow time to pass through building security procedures before the start time of the technical conference.

The conference will be transcribed and webcast. Transcripts will be available immediately for a fee from Ace Reporting (202-347-3700). A link to the webcast of this event will be available in the Commission Calendar of Events at www.ferc.gov. The Capitol Connection provides technical support for the webcasts and offers the option of listening to the conferences via phone-bridge for a fee. For additional information, visit www.CapitolConnection.org or call (703) 993-3100.

Commission conferences are accessible under section 508 of the Rehabilitation Act of 1973. For accessibility accommodations, please send an email to accessibility@ferc.gov or call toll free 1-866-208-3372 (voice) or 202-208-8659 (TTY), or send a fax to 202-208-2106 with the required accommodations.

For more information about this technical conference, please contact Robert Hudson at Robert.Hudson@ferc.gov or (202) 502-6889, or email XBRLFormsRefresh@ferc.gov. For information related to logistics, please contact Sarah McKinley at Sarah.McKinley@ferc.gov or (202) 502-8368.

Dated: December 16, 2019.
Nathaniel J. Davis, Sr.,
Deputy Secretary.

[FR Doc. 2019-27495 Filed 12-19-19; 8:45 am]

BILLING CODE 6717-01-P